DEPARTMENT OF ENERGY

Federal Energy Regulatory Commission

Combined Notice of Filings #1

July 13, 2006.

Take notice that the Commission received the following exempt wholesale generator filings:

Docket Numbers: EG06-63-000.

Applicants: COSI ACE, LLC.

Description: COSI ACE, LLC submits a Notice of Self-Certification of Exempt Wholesale Generator Status.

Filed Date: June 15, 2006.

Accession Number: 20060615-5026.

Comment Date: 5 p.m. Eastern Time on Thursday, July 27, 2006.

Take notice that the Commission received the following electric rate filings.

Docket Numbers: ER91-569-035.

Applicants: Entergy Services Inc.

Description: Entergy Services, Inc on behalf of Entergy Operating Companies submits a refund report related to refunds pursuant to Commission's May 26, 2006 Order.

Filed Date: July 11, 2006.

Accession Number: 20060712-0072.

Comment Date: 5 p.m. Eastern Time on Tuesday, August 1, 2006.

Docket Numbers: ER03-845-002.

Applicants: Pinpoint Power, LLC.

Description: Pinpoint Power, LLC submits its Substitute Original Sheet 1 to revise the prohibition on certain affiliate sales in paragraph 4 of triennial updated market analysis.

Filed Date: July 10, 2006.

Accession Number: 20060712-0117.

Comment Date: 5 p.m. Eastern Time on Monday, July 31, 2006.

Docket Numbers: ER04-1135-002.

Applicants: Wisconsin Power & Light Company.

Description: Wisconsin Power and Light Company submits a refund report in compliance with Commission's April 26, 2006 Order.

Filed Date: July 11, 2006.

Accession Number: 20060711-5015.

Comment Date: 5 p.m. Eastern Time on Tuesday, August 1, 2006.

Docket Numbers: ER06-881-001; ER06-881-002.

Applicants: Midwest Independent Transmission System; Xcel Energy Services Inc.

Description: Midwest Independent Transmission System Operator, Inc et al. submit their supplemental information in response to the Commission's June 9, 2006 deficiency letter and on July 11, 2006 submitted an errata to its response filing.

Filed Date: July 10, 2006.

Accession Number: 20060712-0065.

Comment Date: 5 p.m. Eastern Time on Monday, July 31, 2006.

Docket Numbers: ER06-700-003.

Applicants: California Independent System Operator Corporation.

Description: California Independent System Operator Corp submits a compliance filing and status report pursuant to FERC's May 12, 2006 Order.

Filed Date: July 11, 2006.

Accession Number: 20060713-0092.

Comment Date: 5 p.m. Eastern Time on Tuesday, August 1, 2006.

Docket Numbers: ER06-916-001.

Applicants: Xcel Energy Services Inc.

Description: Xcel Energy Services Inc on behalf of Northern States Power (Minnesota), et al., submits its Settlement Agreement and Explanatory Statement to resolve all outstanding issues. ER06-916.

Filed Date: June 30, 2006.

Accession Number: 20060706-0043.

Comment Date: 5 p.m. Eastern Time on Thursday, July 20, 2006.

Docket Numbers: ER06-996-001.

Applicants: Public Service Electric & Gas Company.

Description: Public Service Electric and Gas Co submits its response to FERC deficiency letter issued on June 28, 2008.

Filed Date: July 11, 2006.

Accession Number: 20060712-0073.

Comment Date: 5 p.m. Eastern Time on Tuesday, August 1, 2006.

Docket Numbers: ER06-1073-001; ER06-1074-001.

Applicants: LSP Oakland, LLC; LSP South Bay, LLC.

Description: LSP Oakland, LLC and LSP South Bay, LLC submit revised reliability Must-Run Agreements with the California Independent System Operator.

Filed Date: July 11, 2006.

Accession Number: 20060712-0056.

Comment Date: 5 p.m. Eastern Time on Tuesday, August 1, 2006.

Docket Numbers: ER06-1178-000.

Applicants: SEMASS Partnership.

Description: SEMASS Partnership submits Supplement 2 to FERC Rate Schedule 1, Amended Power Sale Agreement with Commonwealth Electric Co dba NSTAR Electric.

Filed Date: June 28, 2006.

Accession Number: 20060703-0208.

Comment Date: 5 p.m. Eastern Time on Friday, July 21, 2006.

Docket Numbers: ER06-1239-000.

Applicants: Moguai Energy LLC.

Description: Moguai Energy LLC submits a petition for acceptance of Amended Rate Schedule 1, Waivers and Blanket Authority including authority to sell electricity at market-based rates.

Filed Date: July 10, 2006.

Accession Number: 20060712-0066.

Comment Date: 5 p.m. Eastern Time on Monday, July 31, 2006.

Docket Numbers: ER06-1240-000; ER00-980-014.

Applicants: Bangor Hydro-Electric Company.

Description: Bangor Hydro-Electric Co submits a Settlement Agreement, revised tariff sheets, and Explanatory Statement pursuant to Rule 602 of FERC's Rules of Practice and Procedure.

Filed Date: July 3, 2006.

Accession Number: 20060712-0067.

Comment Date: 5 p.m. Eastern Time on Monday, July 24, 2006.

Docket Numbers: ER06-1241-000.

Applicants: American Electric Power Service Corporation.

Description: American Electric Power Service Corporation agent for Indiana and Michigan Power Co submits an Original Interconnection and Local Delivery Service Agreement with the City of Garrett, Indiana.

Filed Date: July 11, 2006.

Accession Number: 20060712-0071.

Comment Date: 5 p.m. Eastern Time on Tuesday, August 1, 2006.

Docket Numbers: ER06-1242-000.

Applicants: Southern California Edison Company.

Description: Southern California Edison Co submits revised rate sheets for the Bear Valley Project Distribution System Facilities Agreement, Rate Schedule 468 with Southern California Water Company.

Filed Date: July 11, 2006.

Accession Number: 20060712-0070.

Comment Date: 5 p.m. Eastern Time on Tuesday, August 1, 2006.

Take notice that the Commission received the following electric securities filings.

Docket Numbers: ES06-55-000.

Applicants: Wolverine Power Supply Cooperative, Inc.

Description: Wolverine Power Supply Coop, Inc. submits its application for Authorization of the Assumption of Liabilities.

Filed Date: July 11, 2006.

Accession Number: 20060711-5077.

Comment Date: 5 p.m. Eastern Time on Tuesday, August 1, 2006.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Magalie R. Salas,
Secretary.

[FR Doc. E6-11650 Filed 7-21-06; 8:45 am]

BILLING CODE 6717-01-P